DEPARTMENT OF THE INTERIOR

Bureau of Land Management

[WO-220-1020-JH-01-24 1A]

Extension of Approved Information Collection, OMB Number 1004-0019

AGENCY: Bureau of Land Management, Interior.

ACTION: Notice and request for comments.

SUMMARY: In accordance with the Paperwork Reduction Act of 1995, the Bureau of Land Management (BLM) intends to request renewal of an existing approval to collect certain information from individuals, households, farms or businesses interested in cooperating with the BLM in constructing or maintaining projects on rangelands to aid handling and caring for domestic livestock that are authorized to graze on public land. Form 4120-7 (Range Improvement Permit) is used under authority of Sections 4 and 15 of the Taylor Grazing Act and associated regulations found under 43 CFR 4120.3. It requests information necessary to consider an application and make a decision concerning the proposed rangeland improvement project.

DATES: Comments on the proposed information collection must be received by October 23, 2000, to assure consideration of them.

ADDRESSES: Comments may be mailed to: Regulatory Affairs Group (630), Bureau of Land Management, 1849 C Street NW., Room 401LS, Washington, DC 20240.

Comments may be sent via Internet to: WOComments@blm.gov. Please include “Attn: 1004-0019” and your name and address in your Internet message.

You may hand deliver comments to the Bureau of Land Management, Administrative Record, Room 401, 1620 L Street, NW., Washington, DC.

BLM will make comments available for public review at the L Street address during regular business hours (7:45 a.m. through 4:15 p.m.), Monday through Friday.

FOR FURTHER INFORMATION CONTACT: Tom Roberts, WO-220, 202-452-7769.

SUPPLEMENTARY INFORMATION: In accordance with 5 CFR 1320.12(a), the BLM is required to provide a 60 day notice in the Federal Register concerning a collection of information contained in BLM Form 4120-7 (43 CFR 4120.3) to solicit comments on (a) whether the proposed collection of information is necessary for the proper performance of the functions of the agency, including whether the information will have practical utility; (b) the accuracy of the agency's estimate of the burden of the proposed collection of the information, including the validity of the methodology and assumptions used; (c) ways to enhance the quality, utility, and clarity of the information to be collected; and (d) ways to minimize the burden of the collection of information on those who are to respond, including through the use of appropriate automated, electronic, mechanical, or other technological collection techniques or other forms of information technology. BLM will analyze any comments received in response to this notice and include them with its request for approval from the OMB under 44 U.S.C. 3501 et seq.

The Taylor Grazing Act (TGA) of 1934 (43 U.S.C. 315 et seq.), the Federal Land Policy and Management Act (FLPMA) of 1976 (43 U.S.C. 1701 et seq.) provide the authority for the BLM to administer the livestock grazing program consistent with land use plans, multiple use objectives, sustained yield, environmental values, economic considerations, and other factors. Sections 4 and 15 of the TGA and Regulations in 43 CFR 4120.3-3 allow permittees the opportunity to construct and maintain rangeland improvements on the public lands. The regulations were on February 21, 1964 (49 FR 6452) and last amended on February 22, 1995 (60 FR 9964). Form 4120-7, Range Improvement Permit is an approved form used to request and approve a rangeland improvement project.

The BLM authorizes rangeland improvement projects to facilitate handling livestock while they are using the public lands as an important and integral part of grazing use administration. The information provided by the permittees and lessees is used by BLM to review requests for privately funded rangeland improvement projects for compatibility with multiple use objectives and land use plans, develop appropriate conditions and specifications, and to approve or reject the applications. The name and address is used to determine if the applicant is a grazing permittee in compliance with 43 CFR 4120.3-3(a). Applicants also specify if they will construct a new improvement or obtain a permit to maintain an existing improvement. A brief purpose or justification is stated to determine the compatibility with multiple use plans. The applicant identifies the specific location to determine land ownership and if needed, a plat is provided on the reverse to delineate linear improvements such as fences or pipelines. An estimate of cost or value is recorded in the event of land ownership changes that require appraisal of private assets for reimbursement of permittees for the present worth of improvements in accordance with 43 CFR 4120.3-6(c). The BLM completes administrative codes for its records systems, prepares special terms and conditions as appropriate, assigns a completion date for construction, signs approval and makes inspection of the completed rangeland improvement. A copy of the approved permit is retained to document in BLM files.

Because of the variations in size and complexity of rangeland improvement projects, BLM estimates the public reporting burden for this information collection at some 60 applications filed once that may take as little as 10 minutes to complete, while others may take as long as 30 minutes with an average of 20 minutes burden for each with an annual burden of 20 hours.

Any interested member of the public may request and obtain a copy of the BLM Form 4120-7 without charge by contacting the person identified under FOR FURTHER INFORMATION CONTACT.

All responses to this notice will be summarized and included in the request for Office of Management and Budget approval. All comments will also be a matter of public record.

Dated: August 16, 2000.
Shirlean Beshir,
BLM Information Clearance Officer.

[FR Doc. 00-21318 Filed 8-21-00; 8:45 am]

BILLING CODE 4310-84-M